DEPARTMENT OF TRANSPORTATION

Coast Guard

33 CFR Part 165

[CGD01-99-198]

RIN 2115-AA97

Safety Zone: Parade of Tall Ships Newport 2000, Newport, RI

AGENCY: Coast Guard, DOT.

ACTION: Notice of proposed rulemaking.

SUMMARY: The Coast Guard proposes to establish a temporary moving safety zone around vessels participating in the Newport, RI, parade of Tall Ships on July 2, 2000. The proposed moving safety zone will extend two hundred (200) yards ahead of the lead vessel to two hundred (200) yards astern of the last vessel in the parade, and two hundred (200) yards abeam of each parading vessel along the designated parade route. The safety zone is needed to protect each of the Tall Ships, which will have limited maneuverability, from damage as well as protect passing and spectator vessels. Entry into this zone will be prohibited unless authorized by the Captain of the Port, Providence, Rhode Island.

DATES: Comments and related material must reach the Coast Guard on or before May 8, 2000.

ADDRESSES: You may mail comments and related material to Marine Safety Office Providence, 20 Risho Avenue, East Providence, Rhode Island 02914. The Prevention Department maintains the public docket for this rulemaking. Comments and material received from the public, as well as documents indicated in this preamble as being available in the docket, will become part of this docket and will be available for inspection or copying at Marine Safety Office Providence between 8 am and 3 pm, Monday through Friday, except Federal holidays.

FOR FURTHER INFORMATION CONTACT: CWO John W. Winter at Marine Safety Office Providence, (401) 435-2335.

SUPPLEMENTARY INFORMATION:

Request for Comments

We encourage you to participate in this rulemaking by submitting comments and related material. If you do so, please include your name and address, identify the docket number for this rulemaking (CGD01 99-198), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. However, you may submit a request for a meeting by writing to Marine Safety Office Providence at the address under ADDRESSES explaining why one would be beneficial. If we determine that one would aid this rulemaking, we will hold one at a time and place announced by a later notice in the Federal Register.

Background and Purpose

There will be numerous Tall Ships and other smaller sailing vessels participating in a parade of sail on Sunday, July 2, 2000, for the Tall Ships Newport 2000 celebration. The entire parade event is scheduled to last approximately six hours, beginning at 10 a.m. and ending at 4 p.m. The parading vessels will transit outbound from Newport Harbor, then north through the East Passage, Narragansett Bay, underneath the Newport Bridge, westward around Gould Island, and then southbound out to sea.

Discussion of Proposed Rule

The Coast Guard proposes this rule to protect spectator craft, mariners and the Tall Ships themselves from possible collision while the Tall Ships are making way under sail and have limited mobility in the channel during the parade. The entire parade event is scheduled to last approximately six hours, beginning at 10 am and ending at 4 pm. The parading vessels will transit outbound from Newport Harbor, then north through the East Passage, Narragansett Bay, underneath the Newport Bridge, westward around Gould Island, and then southbound out to sea. The parade of sail route extends through the East Passage of Narragansett Bay and passes through the following points: (see NOAA Charts(s) #13218, 13221, 13223).

Latitude | Longitude
41.30′18″ N | 71.20′58″ W
41.31′43″ N | 71.20′00″ W
41.33′29″ N | 71.19′14″ W
41.33′29″ N | 71.20′55″ W
41.32′19″ N | 71.21′12″ W
41.28′45″ N | 71.20′45″ W
41.27′44″ N | 71.22′24″ W

We feel this proposed rule would give the Coast Guard the authority to ensure the safety of all vessels participating in the parade event as well as spectator craft enjoying the event.

Regulatory Evaluation

This proposed rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040, February 26, 1979).

We expect the economic impact of this proposed rule to be so minimal that a full Regulatory Evaluation under paragraph 10e of the regulatory policies and procedures of DOT is unnecessary.

This safety zone involves only the southeast portion of Narragansett Bay and would shut down the East passage to commercial and recreation traffic during the event. The effect of this regulation will not be significant because this rule would be in effect for only approximately 6 hours, recreational vessel traffic could pass safely around the safety zone through the West passage, and maritime advisories will be made well in advance allowing large commercial traffic to schedule around the event.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This proposed rule would affect the following entities, some of which might be small entities: the owners or operators of vessels intending to transit or anchor in a small portion of Narragansett Bay for approximately six hours between the hours of 10 am and 4 pm on July 2, 2000.

This safety zone would not have a significant economic impact on a substantial number of small entities for the following reasons. This rule would be in effect for only approximately 6 hours. Recreational vessel traffic could pass safely around the safety zone through the West passage. Before the effective period, we would issue maritime advisories widely available to users of the bay, and this will allow large commercial traffic ample time to schedule around the event.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact CWO John W. Winter, telephone (401) 435-2335.

Collection of Information

This proposed rule would call for no new collection of information under the Paperwork Reduction Act of 1995 (44 U.S.C. 3501-3520).

Federalism

We have analyzed this proposed rule under E.O. 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not effect a taking of private property or otherwise have taking implications under E.O. 12630, Governmental Actions and Interference with Constitutionally Protected Property Rights.

Civil Justice Reform

This proposed rule meets applicable standards in sections 3(a) and 3(b)(2) of E.O. 12988, Civil Justice Reform, to minimize litigation, eliminate ambiguity, and reduce burden.

Protection of Children

We have analyzed this proposed rule under E.O. 13045, Protection of Children from Environmental Health Risks and Safety Risks. This rule is not an economically significant rule and does not concern an environmental risk to health or risk to safety that may disproportionately affect children.

Environment

The Coast Guard has considered the environmental impact of implementing this proposed rule and concluded that, under figure 2-1, paragraph 34(g), of Commandant Instruction M16475.lC, this proposed rule is categorically excluded from further environmental documentation. A “Categorical Exclusion Determination” is available in the docket where indicated under ADDRESSES.

List of Subjects in 33 CFR Part 165

Harbors, Marine safety, Navigation (water), Reports and recordkeeping requirements, Security measures, and Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1231; 50 U.S.C. 191; 33 CFR 1.05(g), 6.04-1, 6.04-6 and 160.5; 49 CFR 1.46.

2. Add temporary § 165.T01-198 to read as follows:

§ 165.T01-198 Safety Zone: Parade of Tall Ships Newport 2000, Rhode Island, Lower Narragansett Bay, East Passage.

(a) Location. A moving safety zone 200 yards ahead of the lead vessel in the parade, 200 yards astern of the last vessel in the parade, and 200 yards abeam of each vessel participating in the Tall Ships Newport 2000 parade of sail. The parade of sail route extends through the East Passage of Narragansett Bay and passes through the following points: (see NOAA Charts(s) #13218, 13221, 13223)

Latitude | Longitude
41.30′18″ N | 71.20′58″ W
41.31′43″ N | 71.20′00″ W
41.33′29″ N | 71.19′14″ W
41.33′29″ N | 71.20′55″ W
41.32′19″ N | 71.21′12″ W
41.28′45″ N | 71.20′45″ W
41.27′44″ N | 71.22′24″ W

(b) Effective period. Paragraph (a) of this section is effective between 10 a.m. and 4 p.m. on Sunday, July 2, 2000. Departure time is dependent on the tide, weather and granting of authority for departure by the Captain of the Port, Providence.

(c) Regulations. (1) The general regulations governing safety zones contained in 33 CFR 165.23 apply.

(2) All persons and vessels shall comply with the instructions of the Coast Guard Captain of the Port or the designated on-scene-patrol personnel. These personnel comprise commissioned, warrant, and petty officers of the Coast Guard. Upon being hailed by siren, radio, flashing light, or other means, the operator of the vessel shall process as directed.

Dated: March 6, 2000.
Peter A. Popko,
Captain, U.S. Coast Guard, Captain of the Port, Marine Safety Office Providence.

[FR Doc. 00-7104 Filed 3-21-00; 8:45 am]

BILLING CODE 4910-15-U